DEPARTMENT OF LABOR

Office of the Secretary

Submission for OMB Review: Comment Request; Republication

Editorial Note: FR Doc. E7-12729 was originally published on page 36044 in the issue of Monday, July 2, 2007. Due to omitted text, the document is being reprinted in its entirety.

June 27, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Mine Safety and Health Administration (MSHA), Office of Management and Budget, Room 10235, Washington, DC 20503, Telephone: 202-395-7316/Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Operations Under Water.

OMB Number: 1219-0020.

Type of Response: Reporting.

Affected Public: Private Sector: Business or other for-profit (Mines).

Number of Respondents: 30.

Estimated Number of Annual Responses: 30.

Average Response Time: 5 hours.

Estimated Annual Burden Hours: 150.

Total Annualized capital/startup costs: $450.

Total Annual Costs (operating/maintaining systems or purchasing services): $0.

Description: 30 CFR 1716 requires coal mine operators to obtain a permit to mine under a body of water if in the judgment of the Secretary of Labor, it is sufficiently large enough to constitute a hazard to miners.

Agency: Mine Safety and Health Administration.

Type of Review: Extension without change of currently approved collection.

Title: Program to Prevent Smoking in Hazardous Areas.

OMB Number: 1219-0041.

Type of Response: Reporting.

Affected Public: Private Sector: Business or other for-profit (Mines).

Number of Respondents: 101.

Estimated Number of Annual Responses: 101.

Average Response Time: 30 minutes.

Estimated Annual Burden Hours: 51.

Total Annualized capital/startup costs: $0.

Total Annual Costs (operating/maintaining systems or purchasing services): $0.

Description: The information collection requirements contained in 30 CFR 75.1702 and § 75.1702-1 help to ensure that miners are protected from the unnecessary hazards associated with the open flame of a cigarette lighter or match.

Darrin A. King,
Acting Departmental Clearance Officer.

[FR Doc. E7-12729 Filed 6-29-07; 8:45 am]

Editorial Note: FR Doc. E7-12729 was originally published on page 36044 in the issue of Monday, July 2, 2007. Due to omitted text, the document is being reprinted in its entirety.

[FR Doc. R7-12729 Filed 7-5-07; 8:45 am]

BILLING CODE 1505-01-D